ARCHITECTURAL AND TRANSPORTATION BARRIERS COMPLIANCE BOARD

Meetings

AGENCY: Architectural and Transportation Barriers Compliance Board.

ACTION: Notice of meetings.

SUMMARY: The Architectural and Transportation Barriers Compliance Board (Access Board) plans to hold its regular committee and Board meetings in Washington, DC, Wednesday and Thursday, July 28-29, 2010, at the times and location noted below.

DATES: The schedule of events is as follows:

Wednesday, July 28, 2010

9:45-10:30 a.m. Ad Hoc Committee on Classroom Acoustics.

10:30-12:15 p.m. Ad Hoc Committee on Frontier Issues.

1:30-3:00 p.m. Board Meeting.

Thursday, July 29, 2010

9-5 p.m. Information meeting on Medical Diagnostic Equipment.

ADDRESSES: All meetings will be held at the Access Board Conference Room, 1331 F Street, NW., suite 800, Washington, DC 20004.

FOR FURTHER INFORMATION CONTACT: For further information regarding the meetings, please contact David Capozzi, Executive Director, (202) 272-0010 (voice) and (202) 272-0082 (TTY).

SUPPLEMENTARY INFORMATION: At the Board meeting scheduled on the afternoon of Wednesday, July 28, 2010, the Access Board will consider the following agenda items:

• Approval of the draft May 12, 2010 meeting minutes.

• Ad Hoc Committee Reports.

• Executive Director's Report.

• ADA and ABA Guidelines; Federal Agency Updates.

All meetings are accessible to persons with disabilities. An assistive listening system, computer assisted real-time transcription (CART), and sign language interpreters will be available at the Board meetings and information meeting. Persons attending Board meetings are requested to refrain from using perfume, cologne, and other fragrances for the comfort of other participants (see http://www.access-board.gov/about/policies/fragrance.htm for more information).

David M. Capozzi,
Executive Director.

[FR Doc. 2010-16674 Filed 7-7-10; 8:45 am]

BILLING CODE 8150-01-P